DEPARTMENT OF ENERGY

Federal Energy Regulatory Commission

Combined Notice of Filings #1

Take notice that the Commission received the following electric corporate filings:

Docket Numbers: EC23-17-000.

Applicants: RWE Aktiengesellschaft, Consolidated Edison, Inc., RWE Renewables Americas, LLC, Con Edison Clean Energy Businesses, Inc., Alpaugh 50, LLC, Battle Mountain SP, LLC, Broken Bow Wind II, LLC, Campbell County Wind Farm, LLC, CED Timberland Solar, LLC, CED White River Solar 2, LLC, CED Wistaria Solar, LLC, Consolidated Edison Energy, Inc., Consolidated Edison Solutions, Inc., Copper Mountain Solar 1, LLC, Copper Mountain Solar 2, LLC, Copper Mountain Solar 3, LLC, Copper Mountain Solar 4, LLC, Copper Mountain Solar 5, LLC, Great Valley Solar 1, LLC, Great Valley Solar 2, LLC, Great Valley Solar 3, LLC, Mesquite Solar 1, LLC, Mesquite Solar 2, LLC, Mesquite Solar 3, LLC, Mesquite Solar 4, LLC, Mesquite Solar 5, LLC, Panoche Valley Solar, LLC, Pleasant Hill Solar, LLC, SEP II, LLC, Water Strider Solar LLC, Watlington Solar, LLC.

Description: Joint Application for Authorization Under Section 203 of the Federal Power Act of RWE Aktiengesellschaft.

Filed Date: 10/28/22.

Accession Number: 20221028-5314.

Comment Date: 5 p.m. ET 11/18/22.

Take notice that the Commission received the following electric rate filings:

Docket Numbers: ER10-1520-010; ER10-1521-010; ER10-2474-029; ER10-2475-030; ER10-3246-023; ER13-1266-043; ER13-1266-044; ER15-2211-041; ER20-2493-005; ER22-1385-004.

Applicants: Occidental Power Services, Inc., Occidental Power Marketing, L.P., Sierra Pacific Power Company, Nevada Power Company, PacifiCorp, CalEnergy, LLC, MidAmerican Energy Services, LLC, OTCF, LLC, BHER Market Operations, LLC.

Description: Notice of Change in Status of Occidental Power Services, Inc.

Filed Date: 10/31/22.

Accession Number: 20221031-5401.

Comment Date: 5 p.m. ET 11/21/22.

Docket Numbers: ER10-1841-027; ER10-1849-028; ER10-1851-016; ER10-2005-027; ER11-26-027; ER13-712-030; ER13-752-017; ER13-1991-024; ER13-1992-024; ER15-1418-017; ER15-1883-017; ER15-1925-022; ER15-2582-012; ER15-2676-021; ER16-91-016; ER16-632-016; ER16-1672-019; ER16-2190-018; ER16-2191-018; ER16-2453-019; ER17-804-003; ER17-2152-015; ER18-882-014; ER18-1534-010; ER18-1863-012; ER18-1978-010; ER18-2118-014; ER19-987-014; ER19-1003-014; ER19-1073-008; ER19-1393-014; ER19-1394-014; ER19-2269-007; ER19-2373-010; ER19-2437-010; ER19-2461-010; ER19-2901-008; ER20-122-008; ER20-819-010; ER20-820-009; ER20-1769-008; ER20-1980-006; ER20-1986-005; ER20-1987-009; ER20-2049-005; ER20-2179-007; ER21-1320-004; ER21-1519-004; ER21-1682-004; ER21-1879-004; ER21-1990-004; ER21-2118-006; ER21-2293-006; ER21-2294-005; ER21-2296-005; ER21-2304-005; ER21-2674-005; ER22-381-005; ER22-415-005; ER22-2634-001; ER22-2706-001.

Applicants: Eight Point Wind, LLC, Buffalo Ridge Wind, LLC, Arlington Energy Center III, LLC, Dunns Bridge Solar Center, LLC, Borderlands Wind, LLC, Arlington Solar, LLC, Ensign Wind Energy, LLC, Arlington Energy Center II, LLC, Fish Springs Ranch Solar, LLC, Dodge Flat Solar, LLC, Blackwell Wind Energy, LLC, Farmington Solar, LLC, Elora Solar, LLC, Cool Springs Solar, LLC, Crystal Lake Wind Energy III, LLC, Baldwin Wind Energy, LLC, Cedar Springs Wind III, LLC, Cerro Gordo Wind, LLC, Day County Wind I, LLC, Cedar Springs Wind, LLC, Chicot Solar, LLC, Blythe Solar IV, LLC, Blythe Solar III, LLC, Crowned Ridge Interconnection, LLC, Bronco Plains Wind, LLC, Crowned Ridge Wind, LLC, Emmons-Logan Wind, LLC, Ashtabula Wind I, LLC, Dougherty County Solar, LLC, Endeavor Wind II, LLC, Endeavor Wind I, LLC, Alta Wind VIII, LLC, Crystal Lake Wind Energy II, LLC, Crystal Lake Wind Energy I, LLC, Armadillo Flats Wind Project, LLC, Casa Mesa Wind, LLC, Coolidge Solar I, LLC, East Hampton Energy Storage Center, LLC, Elk City Renewables II, LLC, Cottonwood Wind Project, LLC, Coram California Development, L.P., Brady Interconnection, LLC, Brady Wind II, LLC, Brady Wind, LLC, Chaves County Solar, LLC, Blythe Solar II, LLC, Blythe Solar 110, LLC, Cedar Bluff Wind, LLC, Carousel Wind Farm, LLC, Breckinridge Wind Project, LLC, Adelanto Solar, LLC, Adelanto Solar II, LLC, Desert Sunlight 300, LLC, Desert Sunlight 250, LLC, Energy Storage Holdings, LLC, Cimarron Wind Energy, LLC, Ashtabula Wind III, LLC, Ashtabula Wind II, LLC, ESI Vansycle Partners, L.P., Elk City Wind, LLC, Butler Ridge Wind Energy Center, LLC.

Description: Notice of Change in Status of Adelanto Solar II, LLC, Part 1 of 4 et al.

Filed Date: 10/31/22.

Accession Number: 20221031-5395.

Comment Date: 5 p.m. ET 11/21/22.

Docket Numbers: ER10-1852-070; ER10-1857-019; ER10-1890-023; ER10-1899-018; ER10-1907-026; ER10-1918-027; ER10-1930-016; ER10-1931-017; ER10-1932-019; ER10-1935-020; ER10-1950-027; ER10-1962-023; ER10-1966-018; ER11-2160-023; ER11-2642-022; ER11-3635-019; ER12-895-027; ER12-1228-029; ER12-2225-017; ER12-2226-017; ER13-2112-018; ER13-2147-006; ER14-1630-014; ER14-2138-014; ER14-2447-001; ER14-2707-024; ER15-1375-017; ER15-2101-013; ER15-2477-016; ER15-2601-010; ER16-90-016; ER16-1354-013; ER16-1872-017; ER16-2275-017; ER16-2276-017; ER17-2340-013; ER18-1771-016; ER18-1952-013; ER18-2003-013; ER18-2066-008; ER18-2182-014; ER18-2246-016; ER19-1392-009; ER19-2389-008; ER19-2398-012; ER20-1907-006; ER20-2019-006; ER20-2064-007; ER20-2690-008; ER20-2695-008; ER21-254-006; ER21-1953-006; ER21-2117-005; ER21-2149-005; ER21-2225-005; ER21-2699-006; ER22-1454-001; ER22-1982-001; ER22-2536-001; ER22-2552-001.

Applicants: Java Solar, LLC, Kossuth County Wind, LLC, Great Prairie Wind, LLC, LI Solar Generation, LLC, Minco Wind Energy III, LLC, Irish Creek Wind, LLC, Minco Wind Energy II, LLC, Little Blue Wind Project, LLC, Heartland Divide Wind II, LLC, Harmony Florida Solar, LLC, Mohave County Wind Farm LLC, Jordan Creek Wind Farm LLC, High Majestic Wind I, LLC, Gray County Wind, LLC, Minco Wind I, LLC, Hancock County Wind, LLC, Grazing Yak Solar, LLC, High Lonesome Mesa Wind, LLC, Heartland Divide Wind Project, LLC, Minco IV & V Interconnection, LLC, Minco Wind IV, LLC, Lorenzo Wind, LLC, Gulf Power Company, Langdon Renewables, LLC, Golden Hills North Wind, LLC, Kingman Wind Energy II, LLC, Kingman Wind Energy I, LLC, Marshall Solar, LLC, Live Oak Solar, LLC, Golden Hills Interconnection, LLC, Green Mountain Storage, LLC, Golden Hills Wind, LLC, Golden West Power Partners, LLC, McCoy Solar, LLC, Mammoth Plains Wind Project, LLC, Granite Reliable Power, LLC, Limon Wind III, LLC, Mantua Creek Solar, LLC, Frontier Utilities New York LLC, Genesis Solar, LLC, Limon Wind, LLC, Limon Wind II, LLC, High Majestic Wind II, LLC, Minco Wind Interconnection Services, LLC, Hatch Solar Energy Center I, LLC, FPL Energy South Dakota Wind, LLC, FPL Energy Montezuma Wind, LLC, Logan Wind Energy LLC, High Winds, LLC, Garden Wind, LLC, FPL Energy Wyman IV, LLC, FPL Energy Wyman, LLC, FPL Energy Vansycle, L.L.C., FPL Energy Stateline II, Inc., FPL Energy North Dakota Wind II, LLC, FPL Energy North Dakota Wind, LLC, FPL Energy Illinois Wind, LLC, FPL Energy Green Power Wind, LLC, FPL Energy Cape, LLC, Florida Power & Light Company.

Description: Notice of Change in Status of Florida Power & Light Company, Part 2 of 4 et al.

Filed Date: 10/31/22.

Accession Number: 20221031-5396.

Comment Date: 5 p.m. ET 11/21/22.

Docket Numbers: ER10-1910-026; ER10-1911-026.

Applicants: Duquesne Power, LLC, Duquesne Light Company.

Description: Notice of Change in Status of Duquesne Light Company, et al.

Filed Date: 10/31/22.

Accession Number: 20221031-5402.

Comment Date: 5 p.m. ET 11/21/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2022.
Debbie-Anne A. Reese,
Deputy Secretary.

[FR Doc. 2022-24334 Filed 11-7-22; 8:45 am]

BILLING CODE 6717-01-P